DEPARTMENT OF DEFENSE

Office of the Secretary

Privacy Act of 1974; System of Records

AGENCY: Office of the Secretary, DoD.

ACTION: Notice to add systems of records.

SUMMARY: The Office of the Secretary of Defense proposes to add a system of records notice to its inventory of record systems subject to the Privacy Act of 1974 (5 U.S.C. 552a), as amended.

DATES: The changes will be effective on September 4, 2003 unless comments are received that would result in a contrary determination.

ADDRESSES: Send comments to Directives and Records Division, Directives and Records Branch, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on July 17, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 29, 2003.
Patricia L. Toppings,
Alternate OSD Federal Register Liaison Officer, Department of Defense.

DPR 29

System name:

Language and Skills Participation Program.

System location:

Defense Applicant Assistance Office, PO Box 12708, Arlington, VA 22219-2708.

Categories of individuals covered by the system:

Individuals who are proficient in Arabic or other languages, and who possess skills, vocational and otherwise, who desire to support U.S. efforts in the war on terrorism and related national security objectives.

Categories of records in the system:

Individual's name; age; gender; home address (street, city, state, country, and zip code); type of employment or service being sought, i.e., Federal Limited Term Appointment, Contractor, or Military Ready Reserve, or other; desired length of service (interim, part time, as needed, short term, long term); contact information (telephone number, email address); citizenship; immigration status (permanently admitted alien, student work visa); language type and skill level; source of language (native speaker, education); current profession/vocation; highest level of education; major field of study; where/when degree obtained; other special skills based on previous experience; and security clearance (type and date granted).

Authority for maintenance of the system:

5 U.S.C. 301, Departmental Regulations; 10 U.S.C. 131, Office of the Secretary of Defense; and DoD Directive 5124.2, Under Secretary of Defense for Personnel and Readiness.

Purpose(s):

To identify individuals with language and special skills who potentially may qualify for employment or service opportunities in the public or private sector. Information will also be used to track and monitor the resulting actions taken by governmental or private activities when such information is received and forwarded for evaluation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To governmental agencies and to private entities for purposes of evaluating whether an individual's language ability and skills meet or satisfy a requirement or need that the public or private activity may have in its support of U.S. efforts on the war on terrorism or in furtherance of national security objectives.

The DoD “Blanket Routine Uses” set forth at the beginning of OSD's compilation of systems of records notices apply to this system.

Policies and practices for storing, retrieving, accessing, retaining, and disposing of records in the system:

Storage:

Records are maintained on paper files and on electronic mediums.

Retrievability:

Information is retrieved by the individual's name.

Safeguards:

Locked cabinets accessible to authorized personnel only and IT servers behind “firewall” protection and password-protected access.

Retention and disposal:

Disposition pending. Until the National Archives and Records Administration has approved the retention and disposition of these records, treat records as permanent.

System manager(s)and address:

Program Manager, Defense Applicant Assistance Office, PO Box 12708, Arlington, VA 22219-2708.

Chief, Information Systems Division, PO Box 12708, Arlington, VA 22219-2708.

Notification procedure:

Individuals seeking to determine whether information about themselves is contained in this system of records should address written inquiries to Program Manager, Defense Applicant Assistance Office, PO Box 12708, Arlington, VA 22219-2708.

Requests for information must be signed and contain the individual's full name, mailing address, and telephone number.

Record access procedures:

Individuals seeking access to information about themselves contained in this system of records should address written inquiries to the Program Manager, Defense Applicant Assistance Office, PO Box 12708, Arlington, VA 22219-2708.

Requests for information must be signed and contain the individual's full name, mailing address, and telephone number.

Contesting record procedures:

The OSD rules for accessing records, for contesting contents and appealing initial agency determinations are published in OSD Administrative Instruction No. 81; 32 CFR part 311; or may be obtained from the system manager.

Record source categories:

Subject individual.

Exemptions claimed for the system:

None.

[FR Doc. 03-19873 Filed 8-4-03; 8:45 am]

BILLING CODE 5001-08-P